FEDERAL ELECTION COMMISSION

Sunshine Act Notices

AGENCY: Federal Election Commission.

DATE AND TIME: Thursday, July 22, 2010, at 1:30 p.m.

PLACE: 999 E Street, NW., Washington, DC (Ninth Floor).

STATUS: This meeting will be open to the public.

ITEMS TO BE DISCUSSED:

Draft Advisory Opinion 2010-09: Club for Growth, by its counsel, Carol A. Laham, Esq., and D. Mark Renaud, Esq., of Wiley Rein LLP.

Draft Advisory Opinion 2010-11: Commonsense Ten, by its counsel, Marc E. Elias, Esq., and Ezra Reese, Esq., of Perkins Cole LLP.

Management and Administrative Matters.

* * * * *

DATE AND TIME: Thursday, July 29, 2010, at 10 a.m.

PLACE: 999 E Street, NW., Washington, DC (Ninth Floor).

STATUS: This meeting will be open to the public.

ITEMS TO BE DISCUSSED: Correction and Approval of Minutes.

Draft Advisory Opinion 2010-13: Libertarian Party of Florida, by its treasurer, Mr. James Tall.

Management and Administrative Matters.

Individuals who plan to attend and require special assistance, such as sign language interpretation or other reasonable accommodations, should contact Darlene Harris, Deputy Commission Secretary, at (202) 694-1040, at least 72 hours prior to the hearing date.

PERSON TO CONTACT FOR INFORMATION: Judith Ingram, Press Officer, Telephone: (202) 694-1220.

Darlene Harris,
Deputy Secretary of the Commission.

[FR Doc. 2010-18422 Filed 7-28-10; 8:45 am]

BILLING CODE 6715-01-M